DEPARTMENT OF TRANSPORTATION

Federal Aviation Administration

14 CFR Part 39

[Docket No. FAA-2012-0035; Directorate Identifier 2011-NM-178-AD]

RIN 2120-AA64

Airworthiness Directives; the Boeing Company Airplanes

AGENCY: Federal Aviation Administration (FAA), DOT.

ACTION: Notice of proposed rulemaking (NPRM).

SUMMARY: We propose to adopt a new airworthiness directive (AD) for certain Model 767-200 and -300 series airplanes. This proposed AD was prompted by reports of fatigue cracking on the lower main sill inner chord of the hatch opening of the overwing emergency exit. This proposed AD would require repetitive inspections for cracking, corrosion damage, and any other irregularity of the lower main sill inner chord and surrounding structure, and repair if necessary. We are proposing this AD to detect and correct fatigue cracking on the lower main sill inner chord of the hatch opening of the overwing emergency exit, which could result in reduced structural integrity of the hatch opening of the overwing emergency exit and consequent rapid decompression of the airplane.

DATES: We must receive comments on this proposed AD by March 8, 2012.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: (800) 647-5527) is in the ADDRESSES section. Comments will be available in the AD docket shortly after receipt.

FOR FURTHER INFORMATION CONTACT: Berhane Alazar, Aerospace Engineer, Airframe Branch, ANM-120S, FAA, Seattle Aircraft Certification Office, 1601 Lind Avenue SW., Renton, Washington 98057-3356; phone: (425) 917-6577; fax: (425) 917-6590; e-mail: berhane.alazar@faa.gov.

SUPPLEMENTARY INFORMATION:

Comments Invited

We invite you to send any written relevant data, views, or arguments about this proposal. Send your comments to an address listed under the ADDRESSES section. Include “Docket No. FAA-2012-0035; Directorate Identifier 2011-NM-178-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports of fatigue cracking on the lower main sill inner chord of the hatch opening of the overwing emergency exit on an airplane that had completed 42,079 total flight cycles. This condition, if not corrected, could result in reduced structural integrity of the hatch opening of the overwing emergency exit and consequent rapid decompression of the airplane.

Relevant Service Information

We reviewed Boeing Alert Service Bulletin 767-53A0228, dated July 28, 2011. This service information describes procedures, depending on the airplane configuration, for repetitive high frequency eddy current inspections for cracking of the lower main sill inner chord around body station (STA) 883.5; repetitive detailed inspections for cracking, corrosion damage, and any other irregularity of the lower main sill inner chord and surrounding structure around STA 883.5; and repetitive detailed inspections for cracking, corrosion damage, and any other irregularity of the lower main sill inner chord and surrounding structure around STA 903.5. This service information also describes procedures for repair of certain cracking, corrosion damage, or other irregularity, if necessary.

The initial compliance time for the inspections is at the later of: (1) before 37,500 total flight cycles and (2) within 3,000 flight cycles “after the original issue date of the service bulletin.” The repetitive intervals are 3,750 flight cycles and 7,500 flight cycles, depending on the inspection type.

FAA's Determination

We are proposing this AD because we evaluated all the relevant information and determined the unsafe condition described previously is likely to exist or develop in other products of the same type design.

Proposed AD Requirements

This proposed AD would require accomplishing the actions specified in the service information described previously, except as discussed under “Differences Between the Proposed AD and the Service Information.”

Differences Between Proposed AD and the Service Information

Boeing Alert Service Bulletin 767-53A0228, dated July 28, 2011, specifies to contact the manufacturer for instructions on how to repair certain conditions, but this proposed AD would require repairing those conditions in one of the following ways:

• In accordance with a method that we approve; or

• Using data that meet the certification basis of the airplane, and that have been approved by the Boeing Commercial Airplanes Organization Designation Authorization (ODA) whom we have authorized to make those findings.

Boeing Alert Service Bulletin 767-53A0228, dated July 28, 2011, specifies that the sequence of steps to do the required actions can be changed, but this proposed AD requires that the actions must be done in sequence.

Costs of Compliance

We estimate that this proposed AD affects 377 airplanes of U.S. registry.

We estimate the following costs to comply with this proposed AD:

Estimated Costs
Action | Labor cost | Parts cost | Cost per product | Cost on U.S. operators
Inspection | 28 work-hours × $85 per hour = $2,380 per inspection cycle | $0 | $2,380 per inspection cycle | $897,260 per inspection cycle.

We have received no definitive data that would enable us to provide a cost estimate for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2012-0035; Directorate Identifier 2011-NM-178-AD.

(a) Comments Due Date

We must receive comments by March 8, 2012.

(b) Affected ADs

None.

(c) Applicability

This AD applies to The Boeing Company Model 767-200 and -300 series airplanes, certificated in any category, as specified in Boeing Alert Service Bulletin 767-53A0228, dated July 28, 2011.

(d) Subject

Joint Aircraft System Component (JASC)/Air Transport Association (ATA) of America Code 53, Fuselage.

(e) Unsafe Condition

This AD was prompted by reports of fatigue cracking on the lower main sill inner chord of the hatch opening of the overwing emergency exit. We are issuing this AD to detect and correct fatigue cracking on the lower main sill inner chord of the hatch opening of the overwing emergency exit, which could result in reduced structural integrity of the hatch opening of the overwing emergency exit and consequent rapid decompression of the airplane.

(f) Compliance

Comply with this AD within the compliance times specified, unless already done.

(g) Repetitive Inspections and Repair

Within the applicable compliance time specified in paragraph 1.E., “Compliance,” of Boeing Alert Service Bulletin 767-53A0228, dated July 28, 2011, except as provided by paragraph (h)(3) of this AD: Do a high frequency eddy current (HFEC) inspection for cracking of the lower main sill inner chord around body station (STA) 883.5; a detailed inspection for cracking, corrosion damage, and any other irregularity, of the lower main sill inner chord and surrounding structure around STA 883.5; and a detailed inspection for cracking, corrosion damage, or other irregularity, of the lower main sill inner chord and surrounding structure around STA 903.5; as applicable; and do all applicable repairs; in accordance with the Accomplishment Instructions of Boeing Alert Service Bulletin 767-53A0228, dated July 28, 2011, except as required by paragraphs (h)(1) and (h)(2) of this AD. Do all applicable repairs before further flight. Repeat the applicable inspections thereafter within the applicable times and intervals specified in paragraph 1.E., “Compliance,” of Boeing Alert Service Bulletin 767-53A0228, dated July 28, 2011. Doing a structural repair in accordance with the Accomplishment Instructions of Boeing Alert Service Bulletin 767-53A0228, dated July 28, 2011, terminates the repetitive inspections for that location only.

(h) Exceptions

(1) If any cracking, corrosion damage, or other irregularity is found during any inspection required by this AD, and Boeing Alert Service Bulletin 767-53A0228, dated July 28, 2011, specifies to contact Boeing for appropriate action: Before further flight, repair the cracking, corrosion damage, or other irregularity, using a method approved in accordance with the procedures specified in paragraph (i) of this AD.

(2) Where Boeing Alert Service Bulletin 767-53A0228, dated July 28, 2011, specifies that the sequence of steps to do the actions can be changed, this AD does not allow the sequence of steps to be changed.

(3) Where Boeing Alert Service Bulletin 767-53A0228, dated July 28, 2011, specifies a compliance time “after the original issue date of this service bulletin,” this AD requires compliance within the specified compliance time “after the effective date of this AD.”

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and 14 CFR 25.571, Amendment 45, and the approval must specifically refer to this AD.

(j) Related Information

(1) For more information about this AD, contact Berhane Alazar, Aerospace Engineer, Airframe Branch, ANM-120S, FAA, Seattle Aircraft Certification Office, 1601 Lind Avenue SW., Renton, Washington 98057-3356; phone: (425) 917-6577; fax: (425) 917-6590; e-mail: berhane.alazar@faa.gov.

(2) For service information identified in this AD, contact Boeing Commercial Airplanes, Attention: Data & Services Management, P. O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Issued in Renton, Washington on January 13, 2012.
John Piccola,
Acting Manager, Transport Airplane Directorate, Aircraft Certification Service.

[FR Doc. 2012-1202 Filed 1-20-12; 8:45 am]

BILLING CODE 4910-13-P